DEPARTMENT OF ENERGY

Federal Energy Regulatory Commission

[Project No. 9379-015]

Grenfell, LLC; Flat River Power, LLC: Notice of Transfer of Exemption

1. By letter filed November 13, 2025, Grenfell, LLC, and Flat River Power, LLC, informed the Commission that the exemption from licensing for the Belding Dam Project No. 9379, originally issued March 17, 1986,¹ has been transferred to Flat River Power, LLC. The project is located on the Flat River, Ionia County, Michigan. The transfer of an exemption does not require Commission approval.

¹ Grenfell Hydroelectric Associates, 34 FERC ¶ 62,524 (1986) (Order Granting Exemption from Licensing of a Small Hydroelectric Project of 5 Megawatts or Less).

2. Flat River Power, LLC is located at 813 Jefferson Hill Road, Nassau, New York 12123 is now the exemptee of Belding Dam Project No. 9379.

(Authority: 18 CFR 2.1.)

Dated: January 27, 2026.
Debbie-Anne A. Reese,
Secretary.

[FR Doc. 2026-01916 Filed 1-29-26; 8:45 am]

BILLING CODE 6717-01-P